DEPARTMENT OF THE INTERIOR

Fish and Wildlife Service

Long Lake National Wildlife Refuge Complex, Moffit, ND

AGENCY: Fish and Wildlife Service, Interior.

ACTION: Notice of availability.

SUMMARY: The U.S. Fish and Wildlife Service (Service) announces that the Draft Comprehensive Conservation Plan (CCP) and Environmental Assessment (EA) for the Long Lake National Wildlife Refuge Complex (Complex) is available. This Draft CCP/EA describes how the Service intends to manage this Complex for the next 15 years.

DATES: This Draft CCP/EA is available to the public for a 30-day review and comment period from the date of publication of this notice in the Federal Register. Submit comments to the addresses listed below.

ADDRESSES: Please provide written comments to Bernardo Garza, Planning Team Leader, Division of Planning, Branch of Comprehensive Conservation Planning, Mountain-Prairie Region, P.O. Box 25486, Denver Federal Center, Denver, Colorado 80225-0486, or electronically to bernardo_garza@fws.gov. A copy of the CCP may be obtained by writing to U.S. Fish and Wildlife Service, Division of Refuge Planning, 134 Union Boulevard, Suite 300, Lakewood, CO 80228; or downloaded from http://mountain-prairie.fws.gov/planning.

FOR FURTHER INFORMATION CONTACT: Bernardo Garza at 303-236-4377; fax 303-236-4792; or e-mail: bernardo_garza@fws.gov.

SUPPLEMENTARY INFORMATION: This Complex includes Long Lake National Wildlife Refuge (NWR), Slade NWR, Florence Lake NWR and the Long Lake Wetland Management District (WMD), as well as six easement refuges that have already been covered in a separate CCP.

Long Lake NWR was established on February 25, 1932, by President Herbert Hoover through Executive Order No. 5808 “* * * as a refuge and breeding ground for migratory birds and wild animals * * *”; and under the Migratory Bird Conservation Act “* * * for use as an inviolate sanctuary, or for any other management purpose, for migratory birds.” This Refuge encompasses 22,310 acres consisting of approximately 15,000 acres of brackish to saline marsh and lake; 1,000 acres of other wetlands; and approximately 6,000 acres of tame and native grassland, woodland, and cropland. This Refuge serves as an important staging area for migrating sandhill cranes, Canada geese and other waterfowl, shorebirds, and other migratory birds. Endangered whooping cranes often utilize Refuge marshes during spring and fall migrations.

Slade NWR was established under the authority of the Migratory Bird Conservation Act on October 10, 1944 “* * * for use as an inviolate sanctuary, or for any other management purpose, for migratory birds.” This Refuge occupies 3,000 acres of gently rolling prairie dotted by lakes and marshes formed by glacial action. Habitat centers around five semi-permanent lakes and marshes, and fifteen pothole areas totalling over 900 acres of wetlands.

Florence Lake NWR was established on May 10, 1939, by President Franklin D. Roosevelt through Executive Order No. 8119 “* * * as a refuge and breeding ground for migratory birds and other wildlife * * *”; and under the authority of the Migratory Bird Conservation Act “* * * for use as an inviolate sanctuary, or for any other management purpose, for migratory birds.” This Refuge is located in northern Burleigh County, approximately 45 miles northwest of Long Lake. The fee portion of the Refuge consists of 976.4 acres of native grassland; 201.9 acres of tame grass; 110.9 acres of seeded native grass; 163.2 acres of wetland; and 16 acres of woodland. It serves as an important migratory bird production area and migrational area.

Long Lake WMD was started as part of the Small Wetlands Acquisition Program in the 1950s to save wetlands from various threats, particularly draining. The passage of Public Law 85-585, in August of 1958, amended the Migratory Bird Hunting and Conservation Stamp Act (Duck Stamp Act) of 1934, allowing for acquisition of Waterfowl Production Areas and Easements for Waterfowl Management Rights. This WMD was established with the purpose “* * * to assure the long-term viability of the breeding waterfowl population and production through the acquisition and management of Waterfowl Production Areas, while considering the needs of other migratory birds, threatened and endangered species and other wildlife.” Other purposes for this WMD include those under the Migratory Bird Hunting Stamp Act “* * * as Waterfowl Production Areas subject to all provisions of the Migratory Bird Conservation Act * * * except the inviolate sanctuary provisions * * *”; the Migratory Bird Conservation Act “* * * for any other management purposes, for migratory birds”; and the Consolidated Farm and Rural Development Act “* * * for conservation purposes.”

This Draft CCP/EA identifies and evaluates four alternatives for managing the NWRs and WMD for the next 15 years. Alternative A, the No Action alternative, would have management activities conducted by the Service remaining at current levels. The Service would not develop any new management, restoration, or education programs at the Complex. Current habitat and wildlife practices benefitting migratory species and other wildlife would not be expanded or changed. The staff would perform limited, issue-driven research and only monitor long-term vegetation change. No new funding or staff levels would occur, and programs would follow the same direction, emphasis and intensity as they presently do. The staff would continue to manage the WMD through monitoring and enforcing easements.

Alternative B seeks to return to a more natural hydrology by removing water control structures as well as returning all upland habitats to native vegetation. Alternative B restricts public uses and associated infrastructure (e.g., trails, roads, signs) to a “primitive type” of experience. This alternative seeks to protect and/or restore additional native habitats and to develop partnerships while encouraging research that provides the necessary knowledge and data to guide habitat management decisions and activities.

Alternative C seeks to maintain existing and develop new water control structures. This alternative targets habitat development to specific resource needs, and it maximizes the expansion and development of public use programs and facilities, and the stocking of game fish in feasible locations. This alternative emphasizes protection and/or restoration of additional wildlife habitats and the development of partnerships as well as encourages research that provides the necessary knowledge and data to guide habitat management decisions and activities.

Alternative D, the Proposed Action, seeks to expand the scope and level of efforts of the current management of habitats by incorporating adaptive resource management. The Proposed Action seeks to improve and develop public use facilities to maximize existing and potential wildlife-dependent priority public use opportunities when they are compatible with refuge purposes. This alternative calls for the development of partnerships and the encouragement of research that provides the necessary knowledge and data to guide habitat management decisions and activities, and to protect and/or restore additional wildlife habitats.

All four alternatives would continue to protect federally listed species at current levels.

The proposed action was selected because it best meets the purposes and goals of the Complex, as well as the goals of the National Wildlife Refuge System. The proposed action will also benefit federally listed species, shore birds, migrating and nesting waterfowl, and neotropical migrants, as well as enhanced capabilities to deal with botulism episodes. Environmental education and partnerships will result in improved wildlife-dependent recreational opportunities. Cultural and historical resources as well as federally listed species will be protected.

Opportunities for public input will also be provided at a public meeting to be scheduled soon. Exact dates and times for these public meetings are yet to be determined, but will be announced via local media and a newsletter. All information provided voluntarily by mail, phone, or at public meetings (e.g., names, addresses, letters of comment, input recorded during meetings) becomes part of the official public record. If requested under the Freedom of Information Act by a private citizen or organization, the Service may provide copies of such information. The environmental review of this project will be conducted in accordance with the requirements of the National Environmental Policy Act of 1969, as amended (42 U.S.C. 4321 et seq.); NEPA Regulations (40 CFR 1500-1508); other appropriate Federal laws and regulations; Executive Order 12996; the National Wildlife Refuge System Improvement Act of 1997; and Service policies and procedures for compliance with those laws and regulations.

Dated: May 23, 2006.
James J. Slack,
Deputy Regional Director, Region 6, Denver, CO.

[FR Doc. E6-10705 Filed 7-7-06; 8:45 am]

BILLING CODE 4310-55-P